SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: August 1-September 30, 2014.

ADDRESSES: Susquehanna River Basin Commission, 4423 North Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR § 806.22(f) for the time period specified above:

Approvals By Rule Issued Under 18 CFR § 806.22(f):

1. WPX Energy Appalachia, LLC, Pad ID: Knosky Pad Site, ABR-20090915.R1, Rush Township, Susquehanna County, Pa.; Consumptive Use of Up to 3.999 mgd; Approval Date: August 4, 2014.

2. Citrus Energy Corporation, Pad ID: Procter & Gamble Mehoopany Plant 2 1H, ABR-20091104.R1, Washington Township, Wyoming County, Pa.; Consumptive Use of Up to 5.000 mgd; Approval Date: August 4, 2014.

3. SWEPI LP, Pad ID: Courtney 129 1H-2H, ABR-20090729.R1, Richmond Township, Tioga County, Pa.; Consumptive Use of Up to 4.000 mgd; Approval Date: August 4, 2014.

4. SWEPI LP, Pad ID: 212 1H, ABR-20090727.R1, Charleston Township, Tioga County, Pa.; Consumptive Use of Up to 4.000 mgd; Approval Date: August 4, 2014.

5. SWEPI LP, Pad ID: 235A 1H, ABR-20090728.R1, Sullivan Township, Tioga County, Pa.; Consumptive Use of Up to 4.000 mgd; Approval Date: August 4, 2014.

6. SWEPI LP, Pad ID: Courtney H 255-1H, ABR-20090730.R1, Richmond Township, Tioga County, Pa.; Consumptive Use of Up to 4.000 mgd; Approval Date: August 4, 2014.

7. SWEPI LP, Pad ID: Neal 134D, ABR-20090731.R1, Richmond Township, Tioga County, Pa.; Consumptive Use of Up to 4.000 mgd; Approval Date: August 4, 2014.

8. SWEPI LP, Pad ID: Kipferl 261-1H, ABR-20090732.R1, Jackson Township, Tioga County, Pa.; Consumptive Use of Up to 4.000 mgd; Approval Date: August 4, 2014.

9. Talisman Energy USA Inc., Pad ID: DCNR 587 02 018, ABR-20100219.R1, Ward Township, Tioga County, Pa.; Consumptive Use of Up to 6.000 mgd; Approval Date: August 4, 2014.

10. Talisman Energy USA Inc., Pad ID: DCNR 587 02 008, ABR-20100220.R1, Ward Township, Tioga County, Pa.; Consumptive Use of Up to 6.000 mgd; Approval Date: August 4, 2014.

11. Talisman Energy USA Inc., Pad ID: Putnam 01 077, ABR-20100212.R1, Armenia Township, Bradford County, Pa.; Consumptive Use of Up to 6.000 mgd; Approval Date: August 6, 2014.

12. Talisman Energy USA Inc., Pad ID: Lutz 01 015, ABR-20100213.R1, Troy Township, Bradford County, Pa.; Consumptive Use of Up to 6.000 mgd; Approval Date: August 6, 2014.

13. Talisman Energy USA Inc., Pad ID: Longnecker 03 008, ABR-20100223.R1, Columbia Township, Bradford County, Pa.; Consumptive Use of Up to 6.000 mgd; Approval Date: August 6, 2014.

14. Talisman Energy USA Inc., Pad ID: Harvest Holdings 01 036, ABR-20100225.R1, Canton Township, Bradford County, Pa.; Consumptive Use of Up to 6.000 mgd; Approval Date: August 6, 2014.

15. Talisman Energy USA Inc., Pad ID: Barrett 03 009, ABR-20100230.R1, Columbia Township, Bradford County, Pa.; Consumptive Use of Up to 6.000 mgd; Approval Date: August 6, 2014.

16. Talisman Energy USA Inc., Pad ID: Boor 03 015, ABR-20100232.R1, Columbia Township, Bradford County, Pa.; Consumptive Use of Up to 6.000 mgd; Approval Date: August 6, 2014.

17. Talisman Energy USA Inc., Pad ID: Putnam 01 076, ABR-20100233.R1, Armenia Township, Bradford County, Pa.; Consumptive Use of Up to 6.000 mgd; Approval Date: August 6, 2014.

18. Chesapeake Appalachia, LLC, Pad ID: Hunter, ABR-201408001, Meshoppen Township, Wyoming County, Pa.; Consumptive Use of Up to 7.500 mgd; Approval Date: August 8, 2014.

19. Chesapeake Appalachia, LLC, Pad ID: Kent, ABR-20090726.R1, Towanda Township, Bradford County, Pa.; Consumptive Use of Up to 7.500 mgd; Approval Date: August 12, 2014.

20. Chesapeake Appalachia, LLC, Pad ID: Hershberger, ABR-20090739.R1, Terry Township, Bradford County, Pa.; Consumptive Use of Up to 7.500 mgd; Approval Date: August 12, 2014.

21. Cabot Oil & Gas Corporation, Pad ID: LaRueC P3, ABR-20100138.R1, Dimock Township, Susquehanna County, Pa.; Consumptive Use of Up to 3.575 mgd; Approval Date: August 12, 2014.

22. Cabot Oil & Gas Corporation, Pad ID: Baker P1, ABR-20100149.R1, Dimock Township, Susquehanna County, Pa.; Consumptive Use of Up to 3.575 mgd; Approval Date: August 12, 2014.

23. Seneca Resources, Pad ID: CRV Pad C09-G, ABR-201408002, Shippen Township, Cameron County, Pa.; Consumptive Use of Up to 4.000 mgd; Approval Date: August 12, 2014.

24. Chesapeake Appalachia, LLC, Pad ID: Fitzsimmons, ABR-20090809.R1, Albany Township, Bradford County, Pa.; Consumptive Use of Up to 7.500 mgd; Approval Date: August 15, 2014.

25. Chesapeake Appalachia, LLC, Pad ID: Bacorn, ABR-201408003, Overton Township, Bradford County, Pa.; Consumptive Use of Up to 7.500 mgd; Approval Date: August 15, 2014.

26. Cabot Oil & Gas Corporation, Pad ID: ChudleighW P2, ABR-20100137.R1, Springville Township, Susquehanna County, Pa.; Consumptive Use of Up to 3.575 mgd; Approval Date: August 15, 2014.

27. Cabot Oil & Gas Corporation, Pad ID: CarlsonW P1, ABR-20100145.R1, Springville Township, Susquehanna County, Pa.; Consumptive Use of Up to 3.575 mgd; Approval Date: August 15, 2014.

28. Cabot Oil & Gas Corporation, Pad ID: ColwellA P1, ABR-201408004, Jackson Township, Susquehanna County, Pa.; Consumptive Use of Up to 4.250 mgd; Approval Date: August 18, 2014.

29. Chesapeake Appalachia, LLC, Pad ID: Farr, ABR-20090907.R1, Towanda Township, Bradford County, Pa.; Consumptive Use of Up to 7.500 mgd; Approval Date: August 18, 2014.

30. Chesapeake Appalachia, LLC, Pad ID: Sharer, ABR-20090913.R1, Stevens Township, Bradford County, Pa.; Consumptive Use of Up to 7.500 mgd; Approval Date: August 18, 2014.

31. Chesapeake Appalachia, LLC, Pad ID: Welles 2, ABR-20090940.R1, Terry Township, Bradford County, Pa.; Consumptive Use of Up to 7.500 mgd; Approval Date: August 18, 2014.

32. Chesapeake Appalachia, LLC, Pad ID: Martin, ABR-20090906.R1, Granville Township, Bradford County, Pa.; Consumptive Use of Up to 7.500 mgd; Approval Date: August 19, 2014.

33. Southwestern Energy Production Company, Pad ID: NR-23-FOUR BUCKS-PAD, ABR-201408005, Great Bend Township, Susquehanna County, Pa.; Consumptive Use of Up to 4.999 mgd; Approval Date: August 19, 2014.

34. Chief Oil & Gas, LLC, Pad ID: Kupscznk Drilling Pad #1, ABR-20100224.R1, Springville Township, Susquehanna County, Pa.; Consumptive Use of Up to 2.000 mgd; Approval Date: August 19, 2014.

35. Chief Oil & Gas, LLC, Pad ID: PA Woodlands Drilling Pad, ABR-201408006, Fox Township, Sullivan County, Pa.; Consumptive Use of Up to 2.500 mgd; Approval Date: August 19, 2014.

36. Chief Oil & Gas, LLC, Pad ID: Stone Drilling Pad #1, ABR-20100228.R1, Springville Township, Susquehanna County, Pa.; Consumptive Use of Up to 2.000 mgd; Approval Date: August 19, 2014.

37. SWEPI LP, Pad ID: Thomas 503R, ABR-201408007, Sullivan Township, Tioga County, Pa.; Consumptive Use of Up to 4.000 mgd; Approval Date: August 25, 2014.

38. SWEPI LP, Pad ID: Pazzaglia 506, ABR-201408008, Rutland Township, Tioga County, Pa.; Consumptive Use of Up to 4.000 mgd; Approval Date: August 25, 2014.

39. Chesapeake Appalachia, LLC, Pad ID: Hunsinger, ABR-20090905.R1, Rush Township, Susquehanna County, Pa.; Consumptive Use of Up to 7.500 mgd; Approval Date: August 25, 2014.

40. SWEPI LP, Pad ID: Becker 404, ABR-20090909.R1, Jackson Township, Tioga County, Pa.; Consumptive Use of Up to 4.000 mgd; Approval Date: August 25, 2014.

41. SWEPI LP, Pad ID: Knight 271-1H, ABR-20090912.R1, Jackson Township, Tioga County, Pa.; Consumptive Use of Up to 4.000 mgd; Approval Date: August 25, 2014.

42. SWEPI LP, Pad ID: Empson 235-1H, ABR-20090914.R1, Sullivan Township, Tioga County, Pa.; Consumptive Use of Up to 4.000 mgd; Approval Date: August 25, 2014.

43. SWEPI LP, Pad ID: Bowers 408, ABR-20090919.R1, Jackson Township, Tioga County, Pa.; Consumptive Use of Up to 4.000 mgd; Approval Date: August 25, 2014.

44. SWEPI LP, Pad ID: Cole 236, ABR-20090936.R1, Sullivan Township, Tioga County, Pa.; Consumptive Use of Up to 4.000 mgd; Approval Date: August 25, 2014.

45. Cabot Oil & Gas Corporation, Pad ID: FontanaC P1, ABR-201408009, Bridgewater Township, Susquehanna County, Pa.; Consumptive Use of Up to 4.250 mgd; Approval Date: August 26, 2014.

46. Cabot Oil & Gas Corporation, Pad ID: DysonW P1, ABR-201408010, Springville Township, Susquehanna County, Pa.; Consumptive Use of Up to 4.250 mgd; Approval Date: August 26, 2014.

47. Cabot Oil & Gas Corporation, Pad ID: LernerG P1, ABR-201408011, Ararat Township, Susquehanna County, Pa.; Consumptive Use of Up to 4.250 mgd; Approval Date: August 27, 2014.

48. SWEPI, LP, Pad ID: Smith 253 1H, ABR-20090825.R1, Sullivan Township, Tioga County, Pa.; Consumptive Use of Up to 4.000 mgd; Approval Date: September 7, 2014.

49. SWEPI, LP, Pad ID: Sampson 147 1H-3H, ABR-20090824.R1, Charleston Township, Tioga County, Pa.; Consumptive Use of Up to 4.000 mgd; Approval Date: September 8, 2014.

50. SWEPI, LP, Pad ID: Wheeler 268-1H, ABR-20090829.R1, Jackson Township, Tioga County, Pa.; Consumptive Use of Up to 4.000 mgd; Approval Date: September 8, 2014.

51. SWEPI, LP, Pad ID: White 262-1H, ABR-20090910.R1, Jackson Township, Tioga County, Pa.; Consumptive Use of Up to 4.000 mgd; Approval Date: September 8, 2014.

52. SWEPI, LP, Pad ID: Stefanowich 269-1H, ABR-20090911.R1, Jackson Township, Tioga County, Pa.; Consumptive Use of Up to 4.000 mgd; Approval Date: September 8, 2014.

53. SWEPI, LP, Pad ID: Sherman 234-1H, ABR-20090935.R1, Sullivan Township, Tioga County, Pa.; Consumptive Use of Up to 4.000 mgd; Approval Date: September 8, 2014.

54. Chief Oil & Gas LLC, Pad ID: Phelps B Drilling Pad, ABR-201409001, Lathrop Township, Susquehanna County, Pa.; Consumptive Use of Up to 2.500 mgd; Approval Date: September 9, 2014.

55. Cabot Oil & Gas Corporation, Pad ID: Diaz Family P1, ABR-201409002, Brooklyn Township, Susquehanna County, Pa.; Consumptive Use of Up to 4.250 mgd; Approval Date: September 11, 2014.

56. Chief Oil & Gas LLC, Pad ID: Sechrist Drilling Pad #1, ABR-20100337.R1, Canton Township, Bradford County, Pa.; Consumptive Use of Up to 2.000 mgd; Approval Date: September 12, 2014.

57. Chesapeake Appalachia, LLC, Pad ID: Gowan, ABR-20091001.R1, Terry Township, Bradford County, Pa.; Consumptive Use of Up to 7.500 mgd; Approval Date: September 22, 2014.

58. Chesapeake Appalachia, LLC, Pad ID: Doss, ABR-20091109.R1, Albany Township, Bradford County, Pa.; Consumptive Use of Up to 7.500 mgd; Approval Date: September 22, 2014.

59. Chesapeake Appalachia, LLC, Pad ID: CSI, ABR-20091112.R1, Burlington Township, Bradford County, Pa.; Consumptive Use of Up to 7.500 mgd; Approval Date: September 22, 2014.

60. Chesapeake Appalachia, LLC, Pad ID: Jayne, ABR-20091201.R1, Auburn Township, Susquehanna County, Pa.; Consumptive Use of Up to 7.500 mgd; Approval Date: September 22, 2014.

61. Chesapeake Appalachia, LLC, Pad ID: Roger, ABR-20091209.R1, Auburn Township, Susquehanna County, Pa.; Consumptive Use of Up to 7.500 mgd; Approval Date: September 22, 2014.

62. Samson Exploration, LLC, Pad ID: Pardee & Curtin Lumber Co. C-10H, ABR-20090901.R1, Shippen Township, Cameron County, Pa.; Consumptive Use of Up to 4.500 mgd; Approval Date: September 22, 2014.

63. Samson Exploration, LLC, Pad ID: Pardee & Curtin Lumber Co. C-09H, ABR-20091103.R1, Shippen Township, Cameron County, Pa.; Consumptive Use of Up to 4.500 mgd; Approval Date: September 22, 2014.

64. Southwestern Energy Production Company, Pad ID: RU-51-WHITEHEAD-PAD, ABR-201409003, Jackson Township, Susquehanna County, Pa.; Consumptive Use of Up to 4.999 mgd; Approval Date: September 22, 2014.

65. SWEPI, LP, Pad ID: Benson 130D, ABR-20091012.R1, Richmond Township, Tioga County, Pa.; Consumptive Use of Up to 4.000 mgd; Approval Date: September 29, 2014.

66. Talisman Energy USA Inc., Pad ID: Morgan 01 074, ABR-20100302.R1, Armenia Township, Bradford County, Pa.; Consumptive Use of Up to 6.000 mgd; Approval Date: September 29, 2014.

67. Talisman Energy USA Inc., Pad ID: DCNR 587 02 013, ABR-20100308.R1, Ward Township, Tioga County, Pa.; Consumptive Use of Up to 6.000 mgd; Approval Date: September 29, 2014.

68. Talisman Energy USA Inc., Pad ID: DCNR 587 02 014, ABR-20100309.R1, Ward Township, Tioga County, Pa.; Consumptive Use of Up to 6.000 mgd; Approval Date: September 29, 2014.

69. Talisman Energy USA Inc., Pad ID: Moretz 03 036, ABR-20100347.R1, Wells Township, Bradford County, Pa.; Consumptive Use of Up to 6.000 mgd; Approval Date: September 29, 2014.

70. Talisman Energy USA Inc., Pad ID: DCNR 587 02 005, ABR-20100354.R1, Ward Township, Tioga County, Pa.; Consumptive Use of Up to 6.000 mgd; Approval Date: September 29, 2014.

71. Talisman Energy USA Inc., Pad ID: DCNR 587 02 006, ABR-20100355.R1, Ward Township, Tioga County, Pa.; Consumptive Use of Up to 6.000 mgd; Approval Date: September 29, 2014.

72. Cabot Oil & Gas Corporation, Pad ID: BerryD P1, ABR-20100215.R1, Dimock Township, Susquehanna County, Pa.; Consumptive Use of Up to 3.575 mgd; Approval Date: September 29, 2014.

73. Chief Oil & Gas LLC, Pad ID: Kingsley Drilling Pad #1, ABR-20100336.R1, Monroe Township, Bradford County, Pa.; Consumptive Use of Up to 2.000 mgd; Approval Date: September 29, 2014.

74. Chief Oil & Gas LLC, Pad ID: Duane Jennings Drilling Pad #1, ABR-20100334.R1, Granville Township, Bradford County, Pa.; Consumptive Use of Up to 2.000 mgd; Approval Date: September 29, 2014.

75. Chief Oil & Gas LLC, Pad ID: Kuziak B Drilling Pad, ABR-201409004, Elkland Township, Sullivan County, Pa.; Consumptive Use of Up to 2.500 mgd; Approval Date: September 29, 2014.

76. Cabot Oil & Gas Corporation, Pad ID: StraussE P1, ABR-201409005, Harford Township, Susquehanna County, Pa.; Consumptive Use of Up to 4.250 mgd; Approval Date: September 30, 2014.

77. Cabot Oil & Gas Corporation, Pad ID: RussoB P1, ABR-20100231.R1, Springville Township, Susquehanna County, Pa.; Consumptive Use of Up to 3.575 mgd; Approval Date: September 30, 2014.

78. Seneca Resources, Pad ID: Wolfinger Pad A, ABR-20108064.R1, Shippen Township, Cameron County; and City of St. Marys, Elk County, Pa.; Consumptive Use of Up to 4.000 mgd; Approval Date: September 30, 2014.

79. Seneca Resources, Pad ID: DNCR Tract 007 1V, ABR-20100613.R1, Shippen Township, Tioga County, Pa.; Consumptive Use of Up to 4.000 mgd; Approval Date: September 30, 2014.

Authority: Public Law 91-575, 84 Stat. 1509 et seq., 18 CFR Parts 806, 807, and 808.

Dated: October 14, 2014.
Stephanie L. Richardson,
Secretary to the Commission.

[FR Doc. 2014-24998 Filed 10-20-14; 8:45 am]

BILLING CODE 7040-01-P